DEPARTMENT OF AGRICULTURE

Federal Crop Insurance Corporation

[Docket ID FCIC-22-0005]

Notice of Request for Revision of an Approved Information Collection

AGENCY: Federal Crop Insurance Corporation, USDA.

ACTION: Revision of an approved information collection; comment request.

SUMMARY: This notice announces a public comment period on the information collection request associated with the Multiple Peril Crop Insurance.

DATES: Comments that we receive on this notice will be accepted until close of business October 4, 2022.

ADDRESSES: We invite you to submit comments on this notice. You may submit comments identified by Docket ID: FCIC-22-0005, in the Federal eRulemaking Portal: Go to https://www.regulations.gov Go to http://www.regulations.gov. Follow the instructions for submitting comments. Comments will be available for viewing online at regulations.gov.

FOR FURTHER INFORMATION CONTACT: Francie Tolle, telephone (816) 926-7829; or email francie.tolle@usda.gov. Persons with disabilities who require alternative means for communication should contact the USDA Target Center at (202) 720-2600 (voice) or (844) 433-2774 (toll-free nationwide).

SUPPLEMENTARY INFORMATION: Title: Multiple Peril Crop Insurance.

OMB Number: 0563-0053.

Expiration Date of Approval: December 31, 2022.

Type of Request: Renewal of a currently approved information collection.

Abstract: The information collection requirements for this renewal package are necessary for administering the Federal crop insurance program. Producers are required to report specific data when they apply for Federal crop insurance and report acreage, yields, and notices of loss. Insurance companies accept applications; issue policies; establish and provide insurance coverage; compute liability, premium, subsidies, and losses; indemnify producers; and report specific data to FCIC as required in Appendix III/M13 Handbook. Commodities for which Federal crop insurance is available are included in this information collection package.

FCIC is requesting that the Office of Management and Budget (OMB) extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond (such as through the use of appropriate automated, electronic, mechanical, or other forms of information technology, e.g., permitting electronic submission of responses).

Estimate of Burden: The public reporting burden for this collection of information is estimated to average 0.76 hour per response.

Respondents/Affected Entities: Producers and insurance companies reinsured by FCIC.

Estimated Annual Number of Respondents: 534,374.

Estimated Annual Number of Responses per Respondent: 19.9.

Estimated Annual Number of Responses: 10,622,053.

Estimated Total Annual Burden on Respondents: 8,067,906.

All responses to this notice will be summarized and included in the request for OMB approval. All comments will also become a matter of public record.

Marcia Bunger,
Manager, Federal Crop Insurance Corporation.

[FR Doc. 2022-16840 Filed 8-4-22; 8:45 am]

BILLING CODE 3410-08-P